ENVIRONMENTAL PROTECTION AGENCY

[FRL-8398-8]

Agency Information Collection Activities; Proposed Renewal of Several Currently Approved Collections; Comment Request

AGENCY: Environmental Protection Agency (EPA).

ACTION: Notice.

SUMMARY: In compliance with the Paperwork Reduction Act (PRA) (44 U.S.C. 3501 et seq.), this document announces that EPA is planning to submit requests to renew several currently approved Information Collection Request (ICR) to the Office of Management and Budget (OMB). The ICRs are specifically identified in this document by their corresponding titles, EPA ICR numbers, OMB Control numbers, and related docket identification (ID) numbers. Before submitting these ICRs to OMB for review and approval, EPA is soliciting comments on specific aspects of the information collection activities.

DATES: Comments must be received on or before April 27, 2009.

ADDRESSES: Submit your comments, identified by the docket ID number for the corresponding ICR as identified in this document, by one of the following methods:

• Federal eRulemaking Portal: http://www.regulations.gov. Follow the on-line instructions for submitting comments.

• Mail: Office of Pesticide Programs (OPP) Regulatory Public Docket (7502P), Environmental Protection Agency, 1200 Pennsylvania Ave., NW, Washington, DC 20460-0001.

• Delivery: OPP Regulatory Public Docket (7502P), Environmental Protection Agency, Rm. S-4400, One Potomac Yard (South Bldg.), 2777 S. Crystal Dr., Arlington, VA. Deliveries are only accepted during the Docket’s normal hours of operation (8:30 a.m. to 4 p.m., Monday through Friday, excluding legal holidays). Special arrangements should be made for deliveries of boxed information. The Docket Facility telephone number is (703) 305-5805.

Instructions: Direct your comments to the docket ID number for the corresponding ICR as identified in this document. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available in http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Lily Negash, Field and External Affairs Division (7506P), Office of Pesticide Programs, Environmental Protection Agency, 1200 Pennsylvania Ave., NW., Washington, DC 20460-0001; telephone number: (703) 347-8515; fax number: (703) 305-5884; e-mail address: negash.lily@epa.gov.

SUPPLEMENTARY INFORMATION:

I. What Information is of Particular Interest to the EPA?

Pursuant to section 3506(c) (2) (A) of PRA, EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What Should I Consider when I Prepare My Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Provide specific examples to illustrate your concerns.

6. Offer alternative ways to improve the collection activity.

7. Make sure to submit your comments by the deadline identified under DATES.

8. To ensure proper receipt by EPA, be sure to identify the docket ID number assigned to this action in the subject line on the first page of your response. You may also provide the name, date, and Federal Register citation.

III. What Do I Need to Know About PRA?

An Agency may not conduct or sponsor, and a person is not required to respond to, a collection of information subject to PRA approval unless it displays a currently valid OMB control number. The OMB control numbers for EPA's regulations in title 40 of the Code of Federal Regulations (CFR), after appearing in the preamble of the final rule, are further displayed either by publication in the Federal Register or by other appropriate means, such as on the related collection instruments or form, if applicable. The display of OMB control numbers for certain EPA regulations is consolidated in a list at 40 CFR 9.1.

Under PRA, burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

IV. Which ICRs Are Being Renewed?

EPA is planning to submit a number of currently approved ICRs to OMB for review and approval under PRA. In addition to specifically identifying the ICRs by title and corresponding ICR, OMB and docket ID numbers, this unit provides a brief summary of the information collection activity and the Agency’s estimated burden. The Supporting Statement for each ICR, a copy of which is available in the corresponding docket, provides a more detailed explanation.

A. Docket ID Number EPA-HQ-OPP-2008-0927

Title: Tolerance Petitions for Food/Feed Crops and New Inert Ingredients.

ICR numbers: EPA ICR No. 0597.10, OMB Control No. 2070-0024.

ICR status: The approval for this ICR is scheduled to expire on November 30, 2009.

Affected entities: Entities potentially affected by this ICR include individuals or entities engaged in activities related to the registration of a pesticide product, which may be identified by the North American Industrial Classification System (NAICS) code 325320.

Abstract: This information collection will enable EPA to collect adequate data to support the establishment of pesticide tolerances pursuant to section 408 of the Federal Food, Drug, and Cosmetic Act (FFDCA). A pesticide may not be used on food or feed crops unless EPA has established a tolerance for the pesticide residues on that crop or established an exemption from the requirement to have a tolerance. Responses to this collection are required to obtain tolerances or exemptions from tolerances for pesticides used on food or feed crops, pursuant to section 408 of FFDCA, 21 U.S.C. 346a, as amended by the Food Quality Protection Act (FQPA) (Public Law 104-170). CBI submitted to EPA in response to this information collection is protected from disclosure under the Federal Insecticide, Fungicide, and Rodenticide Act (FIFRA) section 10.

This ICR only applies to the information collection activities associated with the submission of a petition for a tolerance action. It is EPA’s responsibility to ensure that the maximum residue levels likely to be found in or on food/feed crops are safe for human consumption through a careful review and evaluation of residue chemistry and toxicology data. In addition, it must ensure that adequate enforcement of the tolerance can be achieved through the testing of submitted analytical methods. If the data are adequate for EPA to determine that there is a reasonable certainty that no harm will result from aggregate exposure, the Agency will establish the tolerance or grant an exemption from the requirement of a tolerance.

Burden statement: The annual public reporting and recordkeeping burden for this collection of information is estimated to average 1,739 hours per response. The ICR, a copy of which is available in the docket, provides a detailed explanation of this estimate, which is only briefly summarized here:

Estimated total number of potential respondents: 103.

Frequency of response: As needed.

Estimated total average number of responses for each respondent: 1.

Estimated total annual burden hours: 179,117.

Estimated total annual costs: $14,712,005. This ICR does not involve any capital investment or maintenance and operational costs.

Changes in the estimates from the last approval: The renewal of this ICR will result in an overall decrease of 79,783 hours in the total estimated respondent burden identified in the currently approved ICR. The thirty-one percent decrease from previous years, reflects the average number of tolerance petitions received by EPA in the past three years (2006, 2007, and 2008). This change is an adjustment.

B. Docket ID Number EPA-HQ-OPP-2008-0917

Title: Standards for Pesticide Containers and Containment.

ICR numbers: EPA ICR No. 1632.03, OMB Control No. 2070-0133.

ICR status: The approval for this ICR is scheduled to expire on November 30, 2009.

Affected entities: Entities potentially affected by this ICR include pesticide registrants and businesses who formulate pesticide products or pesticide formulation intermediates (NAICS code 325320), farm supply wholesalers (NAICS code 422910), swimming pool applicators (classified under NAICS codes 561790, 453998, and 235990), and agricultural (aerial and ground) commercial applicators (classified under NAICS code 115112).

Abstract: This information collection request covers the information collection activities associated with the container design and residue removal requirements and containment structure requirements.

With respect to the container design and residue removal requirements, the information collection activities are associated with the requirement that businesses subject to the container regulations (pesticide registrants) and repackaging regulations (pesticide registrants and refillers) maintain records of test data, cleaning procedures, certain data when a container is refilled, and other supporting information. These records are subject to both call-in by EPA and on-site inspection by EPA and its representatives. EPA has not established a regular schedule for the collection of these records, and there is no reporting.

With respect to the containment structure requirements, the information collection activities are associated with the requirement that businesses subject to the containment structure regulations maintain records of the: 1) Monthly inspection and maintenance of each containment structure and all stationary bulk containers; 2) duration over which non-stationary bulk containers holding pesticide and not protected by a secondary containment unit remain at the same location; and 3) construction date of the containment structure. The businesses subject to the containment structure regulations include agrichemical retailers and refilling establishments, custom blenders and commercial applicators of agricultural pesticides. The records have to be maintained by the owners and operators of such businesses. There is no regular schedule for the collection of either of these records, nor does EPA anticipate a call-in of records at some future date. Instead, the records would be available to inspectors to ensure that businesses are in compliance with containment requirements. These inspections are generally conducted by the states, who enforce FIFRA regulations through cooperative agreements with EPA.

Burden statement: The annual public reporting and recordkeeping burden for this collection of information is estimated to average 7.4 hours per response. The ICR, a copy of which is available in the docket, provides a detailed explanation of this estimate, which is only briefly summarized here:

Estimated total number of potential respondents: 23,586. This includes 1,804 registrant facilities, 16,795 agricultural pesticide refillers, 322 swimming pool supply companies, and 4,665 facilities requiring secondary containment.

Frequency of response: On occasion. There is no regular reporting involved. This ICR only involves recordkeeping requirements.

Estimated total average number of responses for each respondent: 1.

Estimated total annual burden hours: 174,550.5 hours. This includes 139,563 hours for container design and residue removal requirements and 34,987.5 hours for containment structure requirements.

Estimated total annual costs: $6,124,953. This includes $4,902,723 for container design and residue removal requirements and $1,222,230 for containment structure requirements.

Changes in the estimates from the last approval: The renewal of this ICR will result in an overall increase of 122,493.5 hours in the total estimated respondent burden identified in the currently approved ICR. When the information collection associated with this ICR was approved in 2006, the burden hours were adjusted to reflect only the burden associated with initial rule familiarization and state requests to use their containment regulations in lieu of Federal regulations - a total of 52,057 hours. These were the only burdens that were imposed by the pesticide container and containment regulations during the course of that approval. EPA was instructed to revise the estimates, upon resubmission, to reflect the burden imposed in 2009 and beyond because of compliance with the requirements. This change is an adjustment.

V. What is the Next Step in the Process for These ICRs?

EPA will consider the comments received and amend the individual ICRs as appropriate. The final ICR packages will then be submitted to OMB for review and approval pursuant to 5 CFR 1320.12. EPA will issue another Federal Register notice pursuant to 5 CFR 1320.5(a) (1) (iv) to announce the submission of these ICRs to OMB and the opportunity for the public to submit additional comments for OMB consideration. If you have any questions about any of these ICRs or the approval process in general, please contact the person listed under FOR FURTHER INFORMATION CONTACT.

List of Subjects

Environmental protection, Reporting and recordkeeping requirements.

Dated: February 17, 2009.
James Jones,
Acting Assistant Administrator, Office of Prevention, Pesticides and Toxic Substances.

[FR Doc. E9-4060 Filed 2-24-09; 8:45 am]

BILLING CODE 6560-50-S